DEPARTMENT OF HOMELAND SECURITY

[Docket No. DHS-2023-0017]

Agency Information Collection Activities: Generic Information Collection: USSS Customer Satisfaction Surveys; Correction

AGENCY: United States Secret Service, Homeland Security (DHS).

ACTION: 30-Day Notice and request for comments; Correction.

SUMMARY: The Department of Homeland Security (DHS) published a document in the Federal Register on August 31, 2023, regarding the Generic Information Collection: USSS Customer Satisfaction Surveys. The document listed incorrect instructions to address comments regarding the inquiry and an incorrect comment closing date.

FOR FURTHER INFORMATION CONTACT: Haley Tacogue, Management and Program Analyst, USSS, Department of Homeland Security, ETP-PRA@usss.dhs.gov, 202-997-3594.

SUPPLEMENTARY INFORMATION:

Correction

In the Federal Register of August 31, 2023, at FR Doc 2023-18829, on page 60221, in the third column, correct the ADDRESSES to read “Written comments and recommendations for the proposed information collection should be sent within 30 days of publication of this notice to www.reginfo.gov/public/do/PRAMain. Find this particular information collection by selecting “Currently under 30-day Review—Open for Public Comments” or by using the search function.” Additionally, in the Federal Register of August 31, 2023, at FR Doc 2023-18829, on page 60221, in the third column, correct the DATES caption to read “Comments are encouraged and will be accepted until September 30, 2023. This process is conducted in accordance with 5 CFR 1320.1.”

Frances Humphrey,
Information Technology Program Manager, Office of the Chief Information Officer.

[FR Doc. 2023-20151 Filed 9-25-23; 8:45 am]

BILLING CODE 9110-18-P